SURFACE TRANSPORTATION BOARD

[Docket No. FD 36068 (Sub-No. 2)]

The Indiana Rail Road Company—Temporary Trackage Rights Exemption—CSX Transportation, Inc.

The Indiana Rail Road Company (INRD), a Class II rail carrier, has filed a verified notice of exemption under 49 CFR 1180.2(d)(8) for its acquisition of limited, temporary overhead trackage rights over a line of railroad of CSX Transportation, Inc. (CSXT) between its connection with CSXT at approximately CSXT milepost OZA 204.5 at Sullivan, Ind., and the connection with trackage serving the Oaktown Mine at approximately CSXT milepost OZA 219.05 at Oaktown, Ind., a distance of approximately 14.55 miles.

As explained by INRD in its notice of exemption in Docket No. FD 36068, pursuant to a May 15, 2008 trackage rights agreement and two subsequent supplements to that agreement dated August 1, 2009, and November 20, 2009, INRD holds trackage rights over a line of railroad of CSXT from Sullivan to Carlisle and Oaktown, Ind.¹ The purpose of those trackage rights is to allow INRD to handle unit coal trains from mines at Carlisle and Oaktown to specified destinations on INRD or other railroads with which INRD interchanges. In 2016, the Board authorized temporarily expanding the existing trackage rights to allow INRD to handle loaded and empty coal trains between the Oaktown Mine and the Kentucky Utilities Generating Station in Harrodsburg, Ky., in interline service with other rail carriers.² The current temporary trackage rights agreement is scheduled to expire on December 31, 2017. INRD states that it intends to consummate the transaction on January 6, 2018. The sole purpose of the trackage rights is to allow INRD to handle loaded and empty unit coal trains between the Oaktown Mine and the Kentucky Utilities Generating Station in Harrodsburg, Ky., in interline service with other rail carriers. The temporary trackage rights will expire on December 31, 2018.³

¹ See Indiana R.R.—Trackage Rights Exemption—CSX Transp., Inc., FD 35328 (STB served Dec. 31, 2009); Indiana R.R.—Trackage Rights Exemption—CSX Transp., Inc., FD 35287 (STB served Sept. 2, 2009); Indiana R.R.—Amended Trackage Rights Exemption—CSX Transp., Inc., FD 35137 (STB served May 22, 2008, and Dec. 4, 2009).

² Indiana R.R.—Trackage Rights Exemption—CSX Transp., Inc., FD 36068 (STB served Oct. 14, 2016); Indiana R.R.—Trackage Rights Exemption—CSX Transp., Inc., FD 36068 (Sub-No. 1) (STB served Feb. 9, 2017).

³ INRD states that, upon expiration of the temporary trackage rights, its underlying trackage rights authorized in Docket Nos. FD 35137, FD 35287, and FD 35328 will remain in place.

As a condition to this exemption, any employees affected by the acquisition of the temporary trackage rights will be protected by the conditions imposed in Norfolk & Western Railway—Trackage Rights—Burlington Northern, Inc., 354 I.C.C. 605 (1978), as modified in Mendocino Coast Railway—Lease & Operate—California Western Railroad, 360 I.C.C. 653 (1980), and any employees affected by the discontinuance of those trackage rights will be protected by the conditions set out in Oregon Short Line Railroad—Abandonment Portion Goshen Branch Between Firth & Ammon, in Bingham & Bonneville Counties, Idaho, 360 I.C.C. 91 (1979).

This notice is filed under 49 CFR 1180.2(d)(8). If the verified notice contains false or misleading information, the exemption is void ab initio. Petitions to revoke the exemption under 49 U.S.C. 10502(d) may be filed at any time. The filing of a petition to revoke will not automatically stay the effectiveness of the exemption.

An original and 10 copies of all pleadings, referring to Docket No. FD 36068 (Sub-No. 2), must be filed with the Surface Transportation Board, 395 E Street SW, Washington, DC 20423-0001. In addition, a copy of each pleading must be served on INRD's representative, Thomas J. Litwiler, Fletcher & Sippel LLC, 29 North Wacker Dr., Ste. 920, Chicago, IL 60606-2832.

According to INRD, this action is categorically excluded from environmental review under 49 CFR 1105.6(c) and historic reporting under 49 CFR 1105.8(b)(3).

Board decisions and notices are available on our website at “WWW.STB.GOV.”

Decided: December 19, 2017.
By the Board, Scott M. Zimmerman, Acting Director, Office of Proceedings.
Jeffrey Herzig,
Clearance Clerk.

[FR Doc. 2017-27604 Filed 12-21-17; 8:45 am]

BILLING CODE 4915-01-P